DEPARTMENT OF HEALTH AND HUMAN SERVICES

Food and Drug Administration

State Health Fraud Task Force Grants; Availability of Funds; Request for Applications; Correction

AGENCY: Food and Drug Administration, HHS.

ACTION: Notice; correction.

The Food and Drug Administration (FDA) is correcting notice document 04-14593 beginning on page 36091 in the issue of Monday, June 28, 2004, by making the following corrections:

On page 36091, in the first column, the second sentence under SUMMARY is corrected to read: “Grant funds will be used to assist agencies in identifying and prosecuting perpetrators of health fraud and AIDS Health Fraud; obtain and disseminate information on the use of fraudulent drugs and therapies; disseminate information on approved drugs and therapies; and provide health fraud information obtained by the State Health Fraud Task Force to State health agencies, community based organizations, and FDA staff.”

On page 36091, in the first column, the DATES section is corrected to read:

“DATES: The application receipt date for new applications is April 30, 2005. The application receipt date for new applications for each subsequent year that this program is in effect will be April 30.”

On page 36091, in the first column, the ADDRESSES section is corrected to read:

“ADDRESSES: FDA is accepting new applications for this program electronically via Grants.gov. Applicants are strongly encouraged to apply electronically by visiting the Web site http://www.grants.gov and following instructions under ‘APPLY.’ The applicant must register in the Central Contractor Registration (CCR) database in order to be able to submit the application. Information about CCR is available at http://www.grants.gov/CCRRegister. The applicant must register with the Credential Provider for Grants.gov. Information about this requirement is available at http://www.grants.gov/CredentialProvider.

If applicants cannot submit applications through the electronic process, application forms are available from, and completed applications should be submitted to, Djuana Gibson, Division of Contracts and Grants Management (HFA-500), Food and Drug Administration, 5600 Fishers Lane, rm. 2131, Rockville, MD 20857, 301-827-7177, e-mail: dgibson@oc.fda.gov. Application forms PHS 5161-1 are available via the Internet at: http://www.hhs.gov/forms (revised 7/00). Applications hand-carried or commercially delivered should be addressed to 5630 Fishers Lane (HFA-500), rm. 2131, Rockville, MD 20852. An application not received in time for orderly processing will be returned to the applicant without consideration.”

On page 36091, in the second column, FOR FURTHER INFORMATION CONTACT is corrected to read:

“FOR FURTHER INFORMATION CONTACT:

Regarding the administrative and financial management aspects of this notice: Djuana Gibson (see ADDRESSES).

Regarding the programmatic aspects of this notice: Stephen Toigo, Division of Federal-State Relations (DFSR), Office of Regulatory Affairs, Food and Drug Administration (HFC-150), 5600 Fishers Lane, rm. 12-07, Rockville, MD 20857, 301-827-6906, or access the Internet at: http://www.fda.gov/ora/fed_state/default.htm. For general ORA program information contact your Public Affairs Specialists at http://www.fda.gov/ora/fed_state/DFSR_Activities/.”

On page 36091, in the second column, under section I, the first paragraph is corrected to read: “FDA will support projects covered by this notice under title XVII of the Public Health Service Act (42 U.S.C. 1702). FDA's project program is described in the Catalog of Federal Domestic Assistance, No. 93.245, and applicants are limited to States that have an existing AIDS Health Fraud Task Force or States that are in the process of developing a Health Fraud Task Force.”

On page 30692, in the first column, under section V.A, a sentence is added at the end of the paragraph that reads: “A Current Listing of SPOCs can be found at http://www.whitehouse.gov/omb/grants/spoc.html.”

On page 36092, in the third column, under section VII, the paragraph is corrected to read: “Applicants are encouraged to apply electronically (see ADDRESSES). If not, the original and two copies of the completed grant application Form PHS-5161-1 (revised 7/00) for State and local governments should be delivered to the Grants Management Office. The receipt date is April 30, 2005. No supplemental material or addenda will be accepted after the receipt date.”

On page 36092, in the third column, under section VIII.A, the section is corrected to read:

“A. Submission Instructions

Applications will be accepted during working hours, 8 a.m. to 4:30 p.m., Monday through Friday, on or before the established receipt date. Applications will be considered received on time if sent or mailed on or before the receipt date as evidenced by a legible U.S. Postal Service dated postmark or a legible date receipt from a commercial carrier, unless they arrive too late for orderly processing. Private metered postmarks shall not be acceptable as proof of timely mailing. Applications not received on time will not be considered for review and will be returned to the applicant. Applicants should note that the U.S. Postal Service does not uniformly provide dated postmarks. Before relying on this method, applicants should check with their local post office.

Do not send applications to the Center for Scientific Research, NIH. Any application sent to NIH that is then forwarded to FDA and not received in time for orderly processing will be deemed unresponsive and returned to the applicant. FDA is able to receive applications via the Internet.

The outside of the mailing package and item 2 of the application face page should be labeled ‘Response to FDA-ORA-04-2.’ You must submit only one application, an original and two copies, per package.”

Please note that the only change to section VIII.A is that FDA is now accepting applications via the Internet.

Dated: February 18, 2005.
Jeffrey Shuren,
Assistant Commissioner for Policy.

[FR Doc. 05-3710 Filed 2-25-05; 8:45 am]

BILLING CODE 4160-01-S